DEPARTMENT OF ENERGY

Federal Energy Regulatory Commission

[Docket No. PF12-9-000]

Constitution Pipeline Company, LLC; Notice of Intent To Prepare an Environmental Impact Statement for the Planned Constitution Pipeline Project, Request for Comments on Environmental Issues, and Notice of Public Scoping Meetings

The staff of the Federal Energy Regulatory Commission (FERC or Commission) will prepare an environmental impact statement (EIS) that will address the environmental impacts of the proposed Constitution Pipeline Project (Project) involving construction and operation of facilities by Constitution Pipeline Company, LLC (Constitution) in Susquehanna County, Pennsylvania; and Broome, Chenango, Delaware, and Schoharie Counties, New York. This EIS will be used by the Commission in its decision-making process to determine whether the project is in the public convenience and necessity.

This notice announces the opening of the scoping process that the Commission will use to gather input from the public and interested agencies on the project. Your input will help the Commission staff determine what issues need to be evaluated in the EIS. Please note that the scoping period will close on October 9, 2012.

This notice is being sent to the Commission's current environmental mailing list for this project. State and local government representatives are asked to notify their constituents of this planned project and encourage them to comment on their areas of concern. Comments may be submitted in written form or verbally. Further details on how to submit written comments are provided in the “Public Participation” section of this notice. In lieu of or in addition to sending written comments, we ¹ invite you to attend the public scoping meetings scheduled as follows:

¹ “We”, “us”, and “our” refer to the environmental staff of the Office of Energy Projects (OEP).

Date and time | Location
September 24, 2012, beginning at 7-10 p.m. EDT | Afton High School, 29 Academy Street, Afton, New York 13730.
September 25, 2012, beginning at 7-10 p.m. EDT | Schoharie High School, 136 Academy Dr., Schoharie, New York 12157, (attendees should enter via the main high school office entrance).
September 26, 2012, beginning at 7-10 p.m. EDT | Blue Ridge High School, 5058 School Road, New Milford, Pennsylvania 18834.

The public meetings are designed to provide you with an opportunity to offer your comments on the Project. Constitution representatives will be present one hour before each meeting to describe their proposal, present maps, and answer questions. Interested groups and individuals are encouraged to attend the meetings and to present comments on the issues they believe should be addressed in the EIS. A transcript of each meeting will be made so that your comments will be accurately recorded.

If you are a landowner receiving this notice, you may be contacted by a pipeline company representative about the acquisition of an easement to construct, operate, and maintain the planned facilities. Constitution would seek to negotiate a mutually acceptable agreement. However, if the Project is approved by the Commission, that approval conveys with it the right of eminent domain. Therefore, if easement negotiations fail to produce an agreement, Constitution could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Summary of the Proposed Project

Constitution has announced their plan to construct and operate approximately 120.6 miles of new 30-inch-diameter pipeline and associated pipeline facilities in Pennsylvania and New York. The Constitution Pipeline Project would provide about 650,000 dekatherms per day (Dth/d) of natural gas from two receipt points in Susquehanna County, Pennsylvania to two new delivery points with the existing Tennessee Gas Pipeline and the Iroquois Gas Transmission Pipeline in Schoharie County, New York.

The proposed Constitution Pipeline Project would consist of the following:

• Construction of approximately 120.6 miles of new 30-inch-diameter pipeline from Susquehanna County, Pennsylvania through Broome, Chenango, Delaware, and Schoharie Counties, New York;

• Installation of four new meter and regulation (M&R) stations including:

Central M&R Receipt Station—a new M&R receipt station, including pressure regulation, in Susquehanna County, Pennsylvania;

Southwestern M&R Receipt Station—a new M&R receipt station, including pressure regulation, in Susquehanna County, Pennsylvania;

Tennessee Gas M&R Delivery Station—a new M&R delivery station, including pressure regulation, in Schoharie County, New York; and

Iroquois M&R Delivery Station—a new M&R delivery station, including pressure regulation, in Schoharie County, New York.

• Construction of a new compressor station:

Schoharie Compressor Station—installation of two Solar Mars 100 16,000-horsepower turbines in Schoharie County, New York;

• Installation of a pig ² launcher at MP 0.0 in Susquehanna County, Pennsylvania and installation of a pig receiver at MP 120.6 in Schoharie County, New York; and

² A pig is a tool that can be used to clean and dry a pipeline and/or to inspect it for damage or corrosion.

• Installation of eight new main line valves assemblies; two in Susquehanna County, Pennsylvania; one in Broome County, New York; two in Delaware County, New York; and three in Schoharie County, New York.

The general location of the proposed project facilities is shown in Appendix 1.³

³ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

At the request of the FERC, Constitution has developed and further refined an alternative route which generally parallels Interstate 88 for a substantial portion of the route (Alternative M). Alternative M would be partially located in Otsego County, New York, in addition to the counties previously mentioned. Constitution recently mailed information regarding this route to potentially affected landowners. Landowners affected by this alternative are included on our mailing list. Your input on these and other route alternatives is requested.

Land Requirements for Construction

Constitution is still in the planning phase for the Project, and workspace requirements have not been finalized. However, construction would disturb approximately 1,530 acres of land for the aboveground facilities and the pipeline. Following construction, about 737 acres would be used for permanent operation of the project's facilities. The remaining acreage would be restored and allowed to revert to former uses.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. All comments received will be considered during the preparation of the EIS.

In the EIS we will discuss impacts that could occur as a result of the construction and operation of the Project under these general headings:

• Geology and Soils;

• Land Use;

• Water Resources, Fisheries, and Wetlands;

• Vegetation and Wildlife;

• Endangered and Threatened Species;

• Cultural Resources;

• Air Quality and Noise;

• Socioeconomics;

• Cumulative Impacts; and

• Public Safety.

We will also evaluate reasonable alternatives to the Project or portions of the Project, and make recommendations on how to lessen or avoid impacts on the various resource areas.

Although no formal application has been filed, we have already initiated our NEPA review under the Commission's Pre-filing process. The purpose of the Pre-filing process is to encourage early involvement of interested stakeholders and to identify and resolve issues before an application is filed with the FERC. As part of our Pre-filing review, we have begun to contact some federal and state agencies to discuss their involvement in the scoping process and the preparation of the EIS. In addition, representatives from the FERC participated in public Open House meetings sponsored by Constitution in the project area in July 2012, and will again in September 2012, to explain the environmental review process to interested stakeholders.

Our independent analysis of the issues will be presented in the EIS. The EIS will be published and distributed for public comment. We will consider all timely comments and revise the document, as necessary, before issuing a final EIS. To ensure your comments are considered, please carefully follow the instructions in the “Public Participation” section of this notice.

With this notice, we are asking agencies with jurisdiction and/or special expertise with respect to environmental issues to formally cooperate with us in the preparation of the EIS. These agencies may choose to participate once they have evaluated the proposal relative to their responsibilities. Agencies that would like to request cooperating agency status should follow the instructions for filing comments provided under the “Public Participation” section of this notice.

Consultations Under Section 106 of the National Historic Preservation Act

In accordance with the Advisory Council on Historic Preservation's implementing regulations, we are using this notice to solicit the views of the public on the project's potential effects on historic properties.⁴ We will document our findings on the impacts on cultural resources and summarize the status of consultations under section 106 of the National Historic Preservation Act in our EIS.

⁴ The Advisory Council on Historic Preservation's regulations are at Title 36, Code of Federal Regulations, Part 800. Historic properties are defined in those regulations as any prehistoric or historic district, site, building, structure, or object included in or eligible for inclusion in the National Register for Historic Places.

Currently Identified Environmental Issues

We have already identified several issues and alternatives that we think deserve attention based on a preliminary review of the proposed facilities, comments made to us at Constitution's open houses, preliminary consultations with other agencies, and the environmental information provided by Constitution. This preliminary list of issues and alternatives may be changed based on your comments and our analysis:

• Impacts from shallow bedrock and blasting;

• Potential effect on federal and state-listed sensitive species (such as Indiana bats and migratory birds);

• Impacts to residential areas;

• Impacts to areas recently flooded;

• Visual and other impacts from forest clearing, including impacts to “greenfield” areas;

• Impacts to agriculture;

• Effects on the local air quality and noise environment from construction and operation of the proposed facilities;

• Assessment of the no action alternative, existing systems and alternative system configurations, and alternative routes to reduce or avoid environmental impacts; and

• Assessment of the I-88 Alternative (currently Alternative M) and other alternatives.

Public Participation

You can make a difference by providing us with your specific comments or concerns about the project. Your comments should focus on the potential environmental effects, reasonable alternatives, and measures to avoid or lessen environmental impact. The more specific your comments, the more useful they will be.

To ensure that your comments are timely and properly recorded, please send your comments so that they will be received in Washington, DC on or before October 9, 2012.

For your convenience, there are three methods you can use to submit your comments to the Commission. In all instances, please reference the project docket number (PF12-9-000) with your submission. The Commission encourages electronic filing of comments and has expert eFiling staff available to assist you at (202) 502-8258 or efiling@ferc.gov.

(1) You may file your comments electronically by using the Quick Comment feature, which is located at www.ferc.gov under the link called “Documents and Filings.” A Quick Comment is an easy method for interested persons to submit text-only comments on a project;

(2) You may file your comments electronically by using the “eFiling” feature, that is listed under the “Documents and Filings” link. eFiling involves preparing your submission in the same manner as you would if filing on paper, and then saving the file on your computer's hard drive. You will attach that file to your submission. New eFiling users must first create an account by clicking on the link called “Sign up” or “eRegister.” You will be asked to select the type of filing you are making. A comment on a particular project is considered a “Comment on a Filing;” or

(3) You may file a paper copy of your comments at the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the Project.

Copies of the completed draft EIS will be sent to the environmental mailing list for public review and comment. If you would prefer to receive a paper copy of the document instead of the CD version or would like to remove your name from the mailing list, please return the attached Mailing List Form (Appendix 2).

Becoming an Intervenor

Once Constitution formally files their application with the Commission, you may want to become an “intervenor,” which is an official party to the Commission's proceeding. Intervenors play a more formal role in the process and are able to file briefs, appear at hearings, and be heard by the courts if they choose to appeal the Commission's final ruling. An intervenor formally participates in a Commission proceeding by filing a request to intervene.

Instructions for becoming an intervenor are included in the User's Guide under the “e-filing” link on the Commission's Web site. Please note that the Commission will not accept requests for intervenor status at this time. You must wait until a formal application for the project is filed with the Commission.

Additional Information

Additional information about the project is available from the Commission's Office of External Affairs at 1-866-208-FERC or on the FERC Web site (www.ferc.gov) using the “eLibrary” link. Click on the eLibrary link, click on “General Search,” and enter the docket number, excluding the last three digits in the Docket Number field (i.e., PF12-9). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as orders, notices, and rule makings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Public meetings or site visits will be posted on the Commission's calendar located at www.ferc.gov/EventCalendar/EventsList.aspx along with other related information.

Finally Constitution has established an internet Web site for the Project at www.constitutionpipeline.com. The Web site includes a description of the Project, viewing locations for Project materials and maps, frequently asked questions and responses, and links to related documents. You can also request additional information or provide comments directly to Constitution at 866-455-9103.

Dated: September 7, 2012.
Kimberly D. Bose,
Secretary.

[FR Doc. 2012-22670 Filed 9-13-12; 8:45 am]

BILLING CODE 6717-01-P